EXPORT-IMPORT BANK OF THE U.S.

[Public Notice 2013-0103]

Agency Information Collection Activities: Final Collection; Comment Request

AGENCY: Export-Import Bank of the U.S.

ACTION: Submission for OMB Review and Comments Request.

Form Title: Application for Long Term Loan or Guarantee (EIB 95-10).

SUMMARY: Export-Import (Ex-Im) Bank is requesting an emergency approval for form EIB 95-10 Application for Long Term Loan or Guarantee, OMB 3048-0013, because the Export Import Bank Reauthorization Act of 2012 has placed additional reporting requirements on the Bank.

By neutralizing the effect of export credit insurance and guarantees offered by foreign governments and by absorbing credit risks that the private section will not accept, Ex-Im Bank enables U.S. exporters to compete fairly in foreign markets on the basis of price and product. This collection of information is necessary, pursuant to 12 USC Sec. 635 (a) (1), to determine eligibility of the applicant for Ex-Im Bank Assistance.

The collection will provide information needed to determine compliance and creditworthiness for transaction requests submitted to Ex-Im Bank under its long-term guarantee and direct loan programs. The form is currently used to make a credit decision on approximately 85 export transactions per year in divisions dealing with aircraft, structured finance, and trade finance.

The application can be viewed at www.exim.gov/pub/pending/eib95-10.pdf.

DATES: Comments should be received on or before March 18, 2013 to be assured of consideration.

ADDRESSES: Comments maybe submitted electronically on WWW.REGULATIONS.GOV or by mail to Michele Kuester, Export Import Bank of the United States, 811 Vermont Ave. NW., Washington, DC 20571.

SUPPLEMENTARY INFORMATION:

Titles and Form Number: EIB 95-10 Application for Long Term Loan or Guarantee.

OMB Number: 3048-0013.

Type of Review: Regular.

Need and Use: The information collected will provide information needed to determine compliance and creditworthiness for transaction requests submitted to the Export Import Bank under its long term guarantee and direct loan programs.

Affected Public: This form affects entities involved in the export of U.S. goods and services.

Annual Number of Respondents: 84.

Estimated Time per Respondent: 1.5 hours.

Government Annual Burden Hours: 2,100.

Frequency of Reporting or Use: Yearly.

Total Cost to the Government: $81,312.

Sharon A. Whitt,
Agency Clearance Officer.

[FR Doc. 2013-00766 Filed 1-15-13; 8:45 am]

BILLING CODE 6690-01-P